DEPARTMENT OF EDUCATION

[CFDA No. 84.215W]

Dropout Prevention Demonstration Program

ACTION: Notice Extending Deadline for Submission of Electronic Applications.

SUMMARY: On May 22, 2001, the Assistant Secretary for Elementary and Secondary Education published in the Federal Register a Notice Inviting Applications for New Awards for Fiscal Year (FY) 2001 under the Dropout Prevention Demonstration Program. (66 FR 28319-28339). The application closing date was July 23, 2001. Applicants were permitted to submit their applications electronically, by hand delivery, or by mail. Instructions for each type of submission were detailed in the application notice.

On July 23, 2001, a power outage affected the Department of Education's computer system and some applicants that had intended to submit electronic applications were unable to do so by the established deadline. The Department is therefore extending the deadline for submission of electronic applications under the program. The deadline for submission of applications by hand delivery or by mail is not being extended.

FOR FURTHER INFORMATION CONTACT: Christine Jackson, Dropout Prevention Demonstration Program, Academic Improvement and Demonstration Programs, Office of Elementary and Secondary Education, U.S. Department of Education, 400 Maryland Avenue, S.W., Room 2W104, FOB-6, Washington, DC 20202-6254. Telephone: (202) 260-2516. e-mail: christine.jackson@ed.gov. Individuals who use a telecommunications device for the deaf (TDD) may call the Federal Information Relay Service (FIRS) at 1-888-877-8339.

Individuals with disabilities may obtain this notice in an alternative format (e.g., Braille, large print, audiotape, or computer diskette) on request to the contact person listed in the preceding paragraph. Please note, however, that the Department is not able to reproduce in an alternative format the standard forms included in the notice.

Deadline for Submission of Electronic Applications: August 6, 2001.

SUPPLEMENTARY INFORMATION: Applicants that wish to submit an electronic application under the Dropout Prevention Demonstration Program must do so by the date established in this notice and comply with the requirements in the Notice Inviting Applications. As that notice states, applicants that submit electronic applications must, among other things, do so by 4:30 p.m. (EST) on the deadline date and fax a signed copy of ED 424 (Application for Federal Assistance) to the Department's Application Control Center within three working days of submitting their applications.

Some applicants that initially attempted to submit their applications electronically but were precluded from doing so due to the power outage instead submitted their applications by mail by the deadline in the Notice Inviting Applications. If any of these applicants did not include a signed copy of ED 424 with their submission, they may fax a signed copy of this form to the Department's Application Control Center within three days of the revised deadline for submission of electronic applications.

Electronic Access to This Document

You may view this document, as well as all other Department of Education documents published in the Federal Register, in text or Adobe Portable Document Format (PDF) on the Internet at the following site: www.ed.gov/legislation/FedRegister.

To use PDF you must have the Adobe Acrobat Reader, which is available free at this site. If you have questions about using PDF, call the U.S. Government Printing Office (GPO) at (202) 512-1530 or, (toll free, at 1-888-293-6498), or in the Washington, D.C. area at (202) 512-1530.

Note: The official version of this document is the document published in the Federal Register. Free Internet access to the official edition of the Federal Register and the Code of Federal Regulations is available on GPO Access at: http://www.access.gpo.gov/nara/index.html

Dated: July 30, 2001.
Susan B. Neuman,
Assistant Secretary for Elementary and Secondary Education.

[FR Doc. 01-19312 Filed 8-1-01; 8:45 am]

BILLING CODE 4000-01-P